DEPARTMENT OF DEFENSE

Department of the Army, Corps of Engineers

Issuance of Nationwide Permits; Notice; Correction

Correction

In notice document 02-3555 beginning on page 6692 in the issue of Wednesday, February 13, 2002, make the following corrections:

1. On page 6693, in the second column, in paragraph a., in the second line “1/12” should read “½”.

2. On the same page, in the third column, in paragraph i. in the 11th line “½” should read “1/12”.

3. On the same page, in the third column, in paragraph i. in the 15th line “½” should read “1/12”.

[FR Doc. C2-3555 Filed 2-22-02; 8:45 am]

BILLING CODE 1505-01-D

FEDERAL COMMUNICATIONS COMMISSION

47 CFR Part 95

[ET Docket No. 00-221; ET Docket No. 99-255;PR Docket No. 92-235; WT Docket 97-153; FCC 01-382]

Reallocation of 27 MHz of Spectrum

Correction

In final rule document 02-2170 beginning on page 6172 in the issue of Monday, February 11, 2002, make the following correction:

§ 95.639 [Corrected]

On page 6193, in the third column, in the first line of § 95.639, “(a)” should read, “(g)”.

[FR Doc. C2-2170 Filed 2-22-02; 8:45 am]

BILLING CODE 1505-01-D

DEPARTMENT OF TRANSPORTATION

Transportation Security Administration

49 CFR Part 1511

[Docket No. TSA-2002-11334]

RIN 2110-AA02

Aviation Security Infrastructure Fees

Correction

In rule document 02-4148 beginning on page 7926 in the issue of Wednesday, February 20, 2002, make the following corrections:

§ 1511.7 [Corrected]

1. On page 7930, in §1511.7, in the third column, the third paragraph designation “(a)” should read “(c)” .

2. On page 7930, in §1511.7, in the third column, the fourth paragraph designation “(b)” should read “(d)” .

3. On page 7930, in §1511.7, in the third column, the seventh paragraph designation “(a)” should read “(e)”.

[FR Doc. C2-4148 Filed 2-22-02; 8:45 am]

BILLING CODE 1505-01-D

DEPARTMENT OF TREASURY

Internal Revenue Service

26 CFR Part 1

[TD 8960]

RIN 1545-BA01

Guidance Under §355(e); Recognition of Gain on Certain Distributions of Stock or Securities in Connection With an Acquisition

Correction

In rule document 01-19353 beginning on page 40590 in the issue of Friday, August 3, 2001, make the following correction:

§1.355-7T [Corrected]

On page 40596, in the third column, the third paragraph should read

“(n) Effective date. This section applies to distributions occurring after August 3, 2001.”

[FR Doc. C1-19353 Filed 2-22-02; 8:45 am]

BILLING CODE 1505-01-D